NUCLEAR REGULATORY COMMISSION

Advisory Committee on the Medical Uses of Isotopes: Meeting Notice

AGENCY: U.S. Nuclear Regulatory Commission.

ACTION: Notice of meeting.

SUMMARY: The U.S. Nuclear Advisory Commission (NRC) will convene a meeting of the Advisory Committee on the Medical Uses of Isotopes (ACMUI) on November 8-9, 2000. The meeting will take place at the address provided below. Topics of discussion will include: (1) The status of the rulemaking of 10 CFR part 35, “Medical Use of Byproduct Material”; (2) the implementation plan for Part 35; and (3) issues concerning intravascular brachytherapy. An update of other rulemaking activities will be provided. The ACMUI will also discuss: (1) The criteria for ACMUI self-evaluation; (2) NRC's Strategic Plan; and (3) the planning, budget, and performance measures process. All sessions of the meeting will be open to the public, with the exception of the first session, which will be closed to provide required Annual Ethics Training for ACMUI committee members and to discuss information that, if released for public view, would constitute a clearly unwarranted invasion of personal privacy.

DATES: The November 8, 2000, meeting will be held from 9 a.m. to 5 p.m., to accommodate Annual Ethics Training for members from 8 to 9 a.m. The November 9, 2000, meeting will be held from 8 a.m. to 12 p.m.

ADDRESSES: U.S. Nuclear Regulatory Commission, Two White Flint North Auditorium, 11545 Rockville Pike, Rockville, MD 20852-2738.

FOR FURTHER INFORMATION, CONTACT: Betty Ann Torres, telephone (301) 415-0191, e-mail bat@nrc.gov, of the Office of Nuclear Material Safety and Safeguards, U.S. Nuclear Regulatory Commission, Washington, DC 20555-0001.

Conduct of the Meeting

Manuel D. Cerqueira, M.D., will chair the meeting. Dr. Cerqueira will conduct the meeting in a manner that will facilitate the orderly conduct of business. The following procedures apply to public participation in the meeting:

1. Persons who wish to provide a written statement should submit reproducible copy to Betty Ann Torres (address previously listed), by November 1, 2000. Statements must pertain to the topics on the agenda for the meeting.

2. Questions from members of the public will be permitted, during the meeting, at the discretion of the Chairman.

3. The transcript and written comments will be available for inspection, and copying, for a fee, at the NRC Public Document Room, 11555 Rockville Pike, Rockville, MD 20852-27382, telephone (800) 397-4209, on or about December 6, 2000. Minutes of the meeting will be available on or about January 8, 2000.

4. Seating for the public will be on a first-come, first-served basis.

This meeting will be held in accordance with the Atomic Energy Act of 1954, as amended (primarily Section 161a); the Federal Advisory Committee Act (5 U.S.C. App); and the Commission's regulations in Title 10, U.S. Code of Federal Regulations, Part 7.

Dated: September 19, 2000.
Andrew L. Bates,
Advisory Committee Management Officer.

[FR Doc. 00-24577 Filed 9-22-00; 8:45 am]

BILLING CODE 7590-01-P